DEPARTMENT OF DEFENSE

Department of the Air Force

[Docket ID: USAF-2022-HQ-0009]

Submission for OMB Review; Comment Request

AGENCY: United States Space Force (USSF), Department of the Air Force, Department of Defense (DoD).

ACTION: 30-day information collection notice.

SUMMARY: The DoD has submitted to the Office of Management and Budget (OMB) for clearance the following proposal for collection of information under the provisions of the Paperwork Reduction Act.

DATES: Consideration will be given to all comments received by March 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Space Systems Command (SSC) Space Domain Awareness & Combat Power (SDACP) and Battle Management Command, Control and Communications (BMC3) Culture Assessment Survey; OMB Control Number 0715-SCAS.

Type of Request: New collection.

Number of Respondents: 173.

Responses per Respondent: 1.

Annual Responses: 173.

Average Burden per Response: 20 minutes.

Annual Burden Hours: 58.

Needs and Uses: Leadership of two Space Systems Command Program Executive Offices (PEOs), Space Domain Awareness & Combat Power (SDACP) and Battle Management Command, Control and Communications (BMC3), want to better understand the current culture within their organizations. The Culture Assessment Survey is designed to (1) collect information about the current climate to create a baseline and (2) identify potential obstacles. The voluntary Culture Assessment Survey focuses on the Space Force Values and Cultural Attributes and seeks to ask the workforce if they are familiar with these values and cultural attributes and if there are barriers to achieving them. Booz Allen has been contracted to aggregate survey results to allow for anonymity. Booz Allen will highlight themes from the aggregated data and provide recommendations (e.g., job aids, branding, communications) to PEO leadership to help them achieve their desired culture. The SDACP & BMC3 Culture Assessment Survey co-sponsors (Deputy Program Executive Officers) will send an email to the workforce requesting they complete the voluntary survey, and this email will include a link to the survey. The survey captures questions pertaining to participant demographics, Space Force values and cultural attributes, and organizational change management. Participants will submit their responses electronically and anonymously.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 15, 2023.
Aaron T. Siegel,
Alternate OSD Federal Register Liaison Officer, Department of Defense.

[FR Doc. 2023-03512 Filed 2-17-23; 8:45 am]

BILLING CODE 5001-06-P